DEPARTMENT OF TRANSPORTATION

Federal Aviation Administration

Notice of Passenger Facility Charge (PFC) Approvals and Disapprovals

AGENCY: Federal Aviation Administration (FAA), DOT

ACTION: Monthly Notice of PFC Approvals and Disapprovals. In January 2007, there were five applications approved. This notice also includes information on nine applications, one approved in November 2005, one approved in March 2006, one approved in April 2006, one approved in August 2006, one approved in October 2006, and four approved in December 2006, inadvertently left off the November 2005, March 2006, April 2006, August 2006, October 2006, and December 2006 notices, respectively. Additionally, eight approved amendments to previously approved applications are listed.

SUMMARY: The FAA publishes a monthly notice, as appropriate, of PFC approvals and disapprovals under the provisions of the Aviation Safety and Capacity Expansion Act of (Title IX of the Omnibus Budget Reconciliation Act of 1990) (Pub. L. 101-508) and Part 158 of the Federal Aviation Regulations (14 CFR Part 158). This notice is published pursuant to paragraph d of § 158.29.

PFC Applications Approved

Public Agency: South Jersey Transportation Authority, Atlantic City, New Jersey.

Application Number: 05-04-U-00-ACY.

Application Type: Use PFC revenue.

PFC Level: $4.50.

Total PFC Revenue to be Used in this Decision: $31,301.

Charge Effective Date: February 1, 2006.

Estimated Charge Expiration Date: November 1, 2006.

Class of Air Carriers not Required to Collect PFC'S: No change from previous decision.

Brief Description of Project Approved for Use: Environmental design mitigation.

Decision Date: November 3, 2005.

FOR FURTHER INFORMATION CONTACT: Dan Vornea, New York Airports District Office, (516) 227-3812, extension 231.

Public Agency: Louisville Regional Airport Authority, Louisville, Kentucky.

Application Number: 06-04-C-00-SDF.

Application Type: Impose and use a PFC.

PFC Level: $4.50.

Total PFC Revenue Approved in this Decision: $1,267,315.

Earliest Charge Effective Date: September 1, 2013.

Estimated Charge Expiration Date: October 1, 2013.

Class of Air Carriers not Required to Collect PFC'S: Air taxi/commercial operators filing, or required to file, FAA Form 1800-31.

Determination: Approved. Based on information submitted in the public agency's application, the FAA has determined that the approved class accounts for less than 1 percent of the total annual enplanements at Louisville International Airport.

Brief Description of Projects Approved for Collection and Use:

Emergency operations center.

Southwest perimeter road.

Repair airfield pavement joints.

Airfield cable, LED light fixtures and signage installation.

Airfield pavement repairs.

Purchase Oshkosh high-speed snow plow.

Purchase M-B high-speed snow broom.

Purchase Mack high-speed snow plow.

Purchase Oshkosh high-speed snow broom.

Purchase proximity gear.

PFC implementation and administration.

Brief Description of Withdrawn Project: Purchase rescue vehicle.

Date of withdrawal: March 13, 2006.

Decision Date: March 16, 2006.

For Further Information Contact: Tommy DuPree, Memphis Airports District Office, (901) 322-8185.

Public Agency: Savannah Airport Commission, Savannah, Georgia.

Application Number: 06-06-C-00-SAV.

Application Type: Impose and use a PFC.

PCF Level: $4.50.

Total PCF Revenue Approved in this Decision: $3,203,972.

Earliest Charge Effective Date: May 1, 2013.

Estimated Charge Expiration Date: November 1, 2013.

Class of Air Carriers not Required to Collect PFC's Air taxi/commercial operators filing FAA Form 1800-31.

Determination: Approved. Based on information submitted in the public agency's application, the FAA has determined that the approved class accounts for less than 1 percent of the total annual enplanements at Savannah/Hilton Head International Airport.

Brief Description of Projects Approved for Collection and Use:

Security enhancements.

Relocate airfield lighting controls (air traffic control tower).

Runway safety area improvements.

Airfield lighting improvements (phase 1).

Replace aircraft rescue and firefighting bridge.

Terminal expansion (design and construction).

Apron expansion (design and construction).

Airfield lighting improvements—vault (phase II).

Taxiway E milling.

Loading bridges and bag lifts.

Relocate runway 36 localizer.

PFC implementation and administration.

Runways redesignation.

Brief Description of Project Partially Approved for Collection and Use: General aviation connector taxiways.

Determination: Corporate and private hangars are not eligible development at small hub and larger airports. In addition, utilities associated with ineligible development are also ineligible. The approved amount has been reduced from that requested due to the ineligible portions of the project.

Brief Description of Withdrawn Project: Relocate airfield maintenance road.

Date of withdrawal: April 17, 2006.

Decision Date: April 21, 2006.

For Further Information Contact: Daniel Gaetan, Atlanta Airports District Office, (404) 305-7146.

Public Agency: Cities of Dallas and Fort Worth acting by and through the Dallas-Forth Worth International Airport Board, Dallas-Fort Worth, Texas.

Applications Number: 06-09-C-00-DFW.

Application Type: Impose and use a PFC.

PFC Level: $4.50.

Total PFC Revenue Approved in this Decision: $36,868,000.

Earliest Charge Effective Date: December 1, 2032.

Estimated Charge Expiration Date: September 1, 2034.

Class of Air Carriers not Required to Collect PFC's: All Part 135 air taxi/commercial operators filing FAA Form 1800-31.

Determination: Approved. Based on information submitted in the public agency's application, the FAA has determined that the approved class accounts for less than 1 percent of the total annual enplanements at Dallas-Fort Worth International Airport.

Brief Description of Projects Approved for Collection and Use:

Construct southeast perimeter taxiway system.

Decision Date: August 22, 2006.

For Further Information Contact: Rick Compton, Texas Airports Development Office, (817) 222-5608.

Public Agency: City of Redmond, Oregon.

Application Number: 06-05-C-00-RDM.

Application Type: Impose and use a PFC.

PFC Level: $4.50.

Total PFC Revenue Approved in This Decision: $645,420.

Earliest Charge Effective Date: March 1, 2007.

Estimated Charge Expiration Date: May 1, 2009.

Class of Air Carriers not Required to Collect PFC's: Nonscheduled/on-demand air carriers filing FAA Form 1800-31.

Determination: Approved. Based on information submitted in the public agency's application, the FAA has determined that the approved class accounts for less than 1 percent of the total annual enplanements at Roberts Field.

Brief Description of Projects Approved for Collection and Use:

Construct snow removal equipment facility, phase 2.

Terminal emergency power supply.

Pavement condition index study.

Airfield electrical improvements.

Airport master plan update.

General aviation ramp rehabilitation.

Terminal expansion phase 1—design.

Terminal Drive relocation including storm water drainage outfalls.

Terminal expansion phase 2—design.

Service road construction including taxiway A transition.

Decision Date: October 19, 2006.

For Further Information Contact: Suzanne Lee-Pang, Seattle Airports District Office, (425) 227-2654.

Public Agency: Rhode Island Airport Corporation, Warwick, Rhode Island.

Application Number: 06-05-C-00-PVD.

Application Type: Impose and use a PFC.

PFC Level: $4.50.

Total PFC Revenue Approved in this Decision: $31,826,316.

Earliest Charge Effective Date: January 1, 2011.

Estimated Charge Expiration Date: April 1, 2013.

Class of Air Carriers not Required to collect PFC's: Air taxi/commercial operators.

Determination: Approved. Based on information submitted in the public agency's application, the FAA has determined that the approved class accounts for less than 1 percent of the total annual enplanements at T.F. Green State Airport.

Brief Description of Projects Approved for Collection and Use at a $4.50 PFC Level:

In-line explosive detection system.

Security screening checkpoint expansion.

Brief Description of Projects Approved for Collection and Use at a $3.00 PFC Level:

Aircraft rescue and firefighting vehicle.

Taxiway T rehabilitation.

PFC implementation/administration.

Decision Date: December 14, 2006.

For Further Information Contact: Priscilla Scott, New England Region Airports Division, (781) 238-7614.

Public Agency: Salt Lake City Department of Airports, Salt Lake City, Utah.

Application Number: 06-10-C-00-SLC.

Application Type: Impose and use a PFC.

Total PFC Revenue Approved in this Decision: $75,362,174.

Earliest Charge Effective Date: December 1, 2007.

Estimated Charge Expiration Date: September 1, 2009.

Class of Air Carriers not Required to Collect PFC'S: Air taxi/commercial operators filing or required to file FAA Form 1800-31.

Determination: Approved. Based on information submitted in the public agency's application, the FAA has determined that the approved class accounts for less than 1 percent of the total annual enplanements at Salt Lake City International Airport (SLC).

Brief Description of Projects Approved for Collection at SLC and Use at SLC at a $4.50 PFC Level:

Airport passenger loading bridge acquisitions.

Passenger loading bridge refurbishment program.

TU-2 bag claim and circulation.

TU-1 bag claim and circulation.

Sterile corridor expansion.

TU-1 security screening.

Modifications for explosive detection system.

Runway 17/35 overlay.

Runway 14/32 overlay.

Taxiway R overlay.

Airfield lighting control system.

Concourse apron rehabilitation.

Taxiway K resurface.

Taxiway centerline light trench pavement reconstruction.

Airport property security fence (phase I).

Airport property security fence (phase II).

Land acquisition for airport compatibility and approach protection.

Brief Description of Projects Approved for Collection at SLC and Use at SLC at a $3.00 PFC Level:

Maintenance equipment.

Concourse E elevator replacement.

Protective bollards—terminal fronts.

Apron deicing modifications.

Midfield pump station and outfall drain line.

Prehistoric site cultural resource investigation and data recovery.

Airfield/airspace system capacity analysis.

Planning analysis for airport development.

Brief Description of Projects Approved for Collection at SLC and Use at Tooele Valley Airport at a $3.00 PFC Level:

Land acquisition for airport compatibility and approach protection.

Taxilane.

Brief Description of Projects Approved for Collection at SLC and Use at Salt Lake City Municipal Airport No. 2 at a $3.00 PFC Level:

Apron rehabilitation.

Secondary fuel containment.

Tie-down apron reconstruction.

Master plan update.

Brief Description of Disapproved Project:

Water main loop extension—2200 North.

Determination:The public agency's application did not provide sufficient information to determine the eligibility of the project. The application also did not demonstrate that the project would make a significant contribution to reducing current or anticipated congestion or meet the PFC objective of preserving or enhancing capacity at SLC.

Decision Date: December 20, 2006.

FOR FURTHER INFORMATION CONTACT: Chris Schaffer, Denver Airports District Office, (303) 342-1258.

Public Agency: City of Boise, Idaho.

Application Number: 06-04-C-00-BOI.

Application Type: Impose and use a PFC.

PFC Level: $4.50.

Total PFC Revenue Approved in this Decision: $5,377,736.

Earliest Charge Effective Date: August 1, 2018.

Estimated Charge Expiration Date: August 1, 2019.

Class of Air Carriers not Required to Collect PFC's: Part 135 air taxi/commercial operators who conduct operations in air commerce carrying persons for compensation or hire, except air taxi/commercial operators, public or private charters, with seating of 10 or more.

Determination: Approved. Based on information submitted in the public agency's application, The FAA has determined that the approved lass accounts for less than 1 percent of the total annual enplanements at Boise Air Terminal.

Brief Description of Projects Approved for Collection and Use:

Taxiway J rehabilitation.

Airfield lighting and electrical building.

Baggage system modifications.

Concourse B improvements.

Concourse B apron rehabilitation and expansion.

Decision Date: December 29, 2006.

FOR FURTHER INFORMATION CONTACT: Suzanne Lee-Pang, Seattle Airports District Office, (425) 227-2654.

Public Agency: Ports of Douglas County and Chelan County, East Wenatchee, Washington.

Application Number: 07-07-C-00-EAT.

Application Type: Impose and use a PFC.

PFC Level: $4.50.

Total PFC Revenue Approved in This Decision: $176,755.

Earliest Charge Effective Date: February 1, 2007.

Estimated Charge Expiration Date: May 1, 2008.

Class of Air Carriers not Required to Collect PFC's: None.

Brief Description of Projects Approved for Collection and Use:

Acquire Davis property.

Phase 1 instrument landing system/environmental assessment.

Phase 2 instrument landing system/runway 12/30 shift.

Acquire Houtz/Yonaka property, plus easements.

Repave airport fire station access road.

Purchase 3 airport fire department airpacs.

Decision Date: December 29, 2006.

FOR FURTHER INFORMATION CONTACT: Suzanne Lee-Pang, Seattle Airports District Office, (425) 227-2654.

Public Agency: South Jersey Transportation Authority, Atlantic City, New Jersey.

Application Number: 07-05-C-00-ACY.

Application Type: Impose and use a PFC.

PFC Level: $4.50.

Total PFC Revenue Approved in This Decision: $5,418,189.

Earliest Charge Effective Date: April 1, 2007.

Estimated Charge Expiration Date: June 1, 2009.

Class of Air Carriers not Required to Collect PFC's: Nonscheduled/on-demand air carriers with less than 1,200 annual enplaned passengers filing FAA Form 1800-31.

Determination: Approved. Based on information submitted to the public agency's application, the FAA has determined that the approved class accounts for less than 1 percent of the total annual enplanements at Atlantic City International Airport.

Brief Description of Projects Approved for Collection and Use:

Acquire snow removal equipment.

Acquire aircraft rescue and firefighting vehicle.

Security project—phase I through II.

Environmental mitigation—phase III.

Install weather reporting equipment.

Acquire interactive training system.

Install of common use terminal equipment.

Decision Date: January 3, 2007.

FOR FURTHER INFORMATION CONTACT: Dan Vornea, New York Airports District Office, (516) 22-3812, extension 231.

Public Agency: City and County of Twin Falls, Idaho.

Application Number: 07-03-C-00-TWF.

Application Type: Impose and use a PFC.

PFC Level: $4.50.

Total PFC Revenue Approved in this Decision: $560,416.

Earliest Charge Effective Date: June 1, 2007.

Estimated Charge Expiration Date: October 1, 2011.

Class of Air Carriers not Required to Collect PFC's: Air taxi/commercial operators utilizing aircraft having a seating capacity of less than 20 passengers.

Determination: Approved. Based on information submitted in the public agency's application, the FAA has determined that the approved class accounts for less than 1 percent of the total annual enplanements at Joslin Field—Magic Valley Regional Airport.

Brief Description of Projects Approved for Collection and Use:

Runway 7/25 pavement rehabilitation.

Taxilane reconstruction.

Update airport master plan study.

Taxiway and taxilane rehabilitation.

Acquire snow plow and snow removal equipment.

Construct snow removal equipment storage building.

Security enhancement project.

Taxilane reconstruction.

Construction of taxilanes 10, 11, and 12.

Taxiway Delta extension.

Acquire sweeper, snow plow, and snow blower.

Apron rehabilitation.

Access road rehabilitation.

Runway 12 safety area.

Decision Date: January 8, 2007.

For Further Information Contact: Trang Tran, Seattle Airports District Office, (425) 227-1662.

Public Agency: Chisholm-Hibbing Airport Authority, Hibbing, Minnesota.

Application Number: 07-02-C-00-HIB.

Application Type: Impose and use a PFC.

PFC Level: $4.50.

Total PFC Revenue Approved in this Decision: $461,737.

Earliest Charge Effective Date: May 1, 2007.

Estimated Charge Expiration Date: November 1, 2017.

Class of Air Carriers not Required to Collect PFC's: Air taxi/commercial operators.

Determination: Approved. Based on information submitted in the public agency's application, the FAA has determined that the approved class accounts for less than 1 percent of the total annual enplanements at Chisholm-Hibbing Airport.

Brief Description of Projects Approved for Collection and Use:

Aircraft rescue and firefighting vehicle.

Aircraft rescue and firefighting building addition.

Medium approach lighting system/taxiway lighting.

Update airport layout plan.

Land acquisition—three parcels.

Drainage and safety area improvements.

Land acquisition—one parcel.

Deer fence and drainage improvements.

Truck with sander and snow plow.

Terminal security improvements.

Pavement rehabilitation.

Install security fencing.

High speed rotary snow blower.

Pavement rehabilitation.

Install emergency generator.

Land acquisition.

Obstruction removal.

Loader with broom and ramp plow.

Update master plan and airport layout plan.

Truck mounted deicer.

Easement for clear zone.

Skid loader with snow blower.

Runway safety area improvements.

Decision Date: January 10, 2007.

For Further Information Contact: Nancy Nistler, Minneapolis Airports District Office, (612) 713-4353.

Public Agency: City of Santa Barbara, California.

Application Number: 07-06-C-00-SBA.

Application Type: Impose and use a PFC.

PFC Level: $4.50.

Total PFC Revenue Approved in this Decision: $4,944,000.

Earliest Charge Effective Date: December 1, 2007.

Estimated Charge Expiration Date: October 1, 2009.

Class of Air Carriers not Required to Collect PFC's: Nonscheduled/on-demand air carriers filing FAA Form 1800-31.

Determination: Approved. Based on information submitted in the public agency's application, the FAA has determined that the approved class accounts for less than 1 percent of the total annual enplanements at Santa Barbara Municipal Airport.

Brief Description of Projects Approved for Collection and Use: Schematic design and design development for airline terminal improvements.

Decision Date: January 12, 2007.

For Further Information Contact: Chuck McCormick, Los Angeles Airports District Office, (310) 725-3626.

Public Agency: County of Eagle, Eagle, Colorado.

Application Number: 07-06-C-00-EGE.

Application Type: Impose and use a PFC.

PFC Level: $4.50.

Total PFC Revenue Approved in this Decision: $5,581,125.

Earliest Charge Effective Date; September 1, 2018.

Estimated Charge Expiration Date: July 1, 2024.

Brief Description of Projects Approved for Collection and Use:

Construct aircraft deicing facility.

Acquire development land.

Terminal road improvements.

Decision Date: January 17, 2007.

For Further Information Contact: Chris Schaffer, Denver Airports District Office, (303) 342-1258.

Amendments to PFC Approvals
Amendment No. city, state | Amendment approved date | Original approved net PFC revenue | Amended approved net PVC revenue | Original estimated charge exp. date | Amended estimated charge exp. date
04-03-02-MFE; McAllen, TX | 01/08/07 | $2,422,037 | $6,133,439 | 04/01/07 | 11/01/11
03-04-C-01-ILM; Wilmington, NC | 01/11/07 | 12,785,647 | 11,585,647 | 04/01/18 | 05/01/17
02-02-C-01-SFO; San Francisco, CA | 01/12/07 | 224,034,821 | 224,034,821 | 01/01/06 | 01/01/06
06-07-C-01-GJT; Grand Junction, CO | 01/23/07 | 6,355,297 | 8,330,000 | 08/01/19 | 08/01/23
96-01-C-01-RST; Rochester, MN | 01/31/07 | 1,160,582 | 1,117,326 | 04/01/99 | 04/01/99
99-02-C-02-GRB; Green Bay, WI | 01/31/07 | 3,028,496 | 2,468,496 | 03/01/02 | 03/01/02
93-01-C-06-RHI; Rhinelander, WI | 01/31/07 | 210,219 | 204,771 | 04/01/96 | 04/01/96
95-02-U-02-RHI; Rhinelander, WI | 01/31/07 | (*) | (*) | 04/01/96 | 04/01/96
*Non applicable.

Issued in Washington, DC, on March 5, 2007.
Joe Hebert,
Manager, Financial Analysis and Passenger Facility Charge Branch.

[FR Doc. 07-1129 Filed 3-9-07; 8:45 am]

BILLING CODE 4910-13-M